DEPARTMENT OF THE INTERIOR

Bureau of Land Management

[LLNVS00000 L19200000.ET0000 WBS LRORF1608700]

Notice of Application for Withdrawal Extension; Notice of Application for Withdrawal Expansion; and Opportunity for Public Meeting; Department of the Air Force, Nevada Test and Training Range, Nevada

AGENCY: Bureau of Land Management, Interior.

ACTION: Notice of Withdrawal Applications.

SUMMARY: The Department of the Air Force (DAF) has filed an application with the Department of the Interior to extend the current withdrawal of public lands from all forms of appropriation under the public land laws, including the mining laws, the mineral leasing laws, and the geothermal leasing laws, subject to valid existing rights, for military use of the Nevada Test and Training Range (NTTR), in Clark, Lincoln, and Nye Counties, Nevada. The DAF has also requested the withdrawal of approximately 301,507 additional acres of public lands from all forms of appropriation under the public land laws, including the mining laws, the mineral leasing laws, and the geothermal leasing laws, subject to valid existing rights. This notice temporarily segregates these lands from all forms of appropriation under the public land laws, including the mining laws, the mineral leasing laws, and the geothermal leasing laws, for 2 years; gives the public an opportunity to comment on the extension and withdrawal applications; and announces the date, time, and location of public meetings.

DATES: Comments on the extension and withdrawal applications, including their environmental consequences, should be received on or before December 10, 2016. In addition, the BLM and DAF will hold joint public meetings on the extension and withdrawal applications, and DAF's National Environmental Policy Act (NEPA) evaluation of the withdrawals. The dates and locations of the public meetings are listed in the SUPPLEMENTARY INFORMATION section.

ADDRESSES: Comments pertaining to the DAF withdrawal extension proposal and/or the DAF withdrawal expansion proposal should be sent to Nellis Air Force Base 99th Air Base Wing Public Affairs, 4430 Grissom Ave., Suite 107, Nellis AFB, NV 89191. Comments pertaining to this Notice should be submitted by any of the following methods:

• Email: BLM_NV_SNDO_NTTR_Withdrawal@blm.gov

• Fax: (702) 515-5023

• Mail: BLM Southern Nevada District Office, Attn: NTTR Withdrawal, 4701 North Torrey Pines Drive, Las Vegas, NV, 89130-2301.

FOR FURTHER INFORMATION CONTACT: Tom Seley, Project Manager, BLM Southern Nevada District Office, 4701 North Torrey Pines Drive, Las Vegas, NV, 89130-2301; email: tseley@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: Pursuant to section 3016 of the National Defense Authorization Act for Fiscal Year 2000 (FY 2000 NDAA), Pub. L. 106-65, and section 3092(k) of the Carl Levin and Howard P. “Buck” McKeon National Defense Authorization Act of Fiscal Year 2015 (FY 2015 NDAA), the Department of the Air Force (DAF) has filed an application to extend the current withdrawal of public lands from all forms of appropriation under the public land laws, including the mining laws, the mineral leasing laws, and the geothermal leasing laws, subject to valid existing rights, for military use of the Nevada Test and Training Range (NTTR), in Clark, Lincoln, and Nye Counties, Nevada. The lands are currently withdrawn under the Act, which reserves these lands for defense-related purposes for a period of 20 years. Unless Congress extends the withdrawal, it will expire on November 5, 2021.

In addition to the DAF's request that the current withdrawal be extended, the DAF filed an application requesting the withdrawal and reservation of additional public lands for military use as a national security testing and training range at the NTTR, located in Clark, Lincoln, and Nye Counties, Nevada. The application to expand the acreage of lands withdrawn for the Air Force's use at the NTTR seeks the withdrawal of approximately 301,507 additional acres of public lands from all forms of appropriation under the public land laws, including the mining laws, the mineral leasing laws, and the geothermal leasing laws, subject to valid existing rights.

As required by section 204(b)(1) of the Federal Land Policy and Management Act of 1976 (FLPMA), 43 U.S.C. 1714(b)(1), and the BLM regulations at 43 CFR part 2300, the BLM is publishing Notice of the DAF applications. While the BLM and the Department of the Interior (DOI) assist the DAF with the processing of this application, and the Secretary of the Interior makes a recommendation to Congress on the proposed withdrawal, Congress, not the Secretary, will make the decision on the requested extension and expansion of the existing NTTR withdrawal.

Extension Request. This application requests extension of the withdrawal of the following area at the NTTR, Nevada, subject to valid existing rights as described below:

Lands Withdrawn by the FY 2000 NDAA

The DAF lands not withdrawn from the public domain and non-Federal lands are contained within the lands withdrawn boundary. Portions of the lands are unsurveyed and the acres were based upon protraction diagrams.

Mount Diablo Meridian, Nevada

Tps. 1, 2, 3, and 4 S., R. 44 E.

T. 5 S., R. 44 E., partly unsurveyed,

Secs. 1 and 2;

Secs. 10 thru 16;

Secs. 20 thru 36.

T. 6 S., R. 44 E., unsurveyed,

Secs. 1 thru 6;

Secs. 8 thru 17;

Secs. 21 thru 27;

Secs. 34 thru 36.

T. 7 S., R. 44 E., partly unsurveyed,

Secs. 1 and 2;

Secs. 11 thru 13.

Tps. 1, 2, 3, and 4 S., R. 45 E.

Tps. 5 and 6 S., R. 45 E., unsurveyed.

T. 7 S., R 45 E., unsurveyed,

Secs. 1 thru 30;

Secs. 32 thru 36.

T. 8 S., R. 45 E., unsurveyed,

Secs. 1 thru 4;

Secs. 10 thru 14;

Secs. 24 and 25.

Tps. 1 and 2 S., R. 46 E.

Tps. 3, 4, 5, 6, 7, and 8 S., R. 46 E., unsurveyed.

T. 9 S., R. 46 E., unsurveyed,

Secs. 1 thru 5;

Secs. 9 thru 15;

Secs. 23 and 24.

Tps. 1 and 2 S., R. 47 E.

Tps. 3, 4, 5, 6, 7, and 8 S., R. 47 E., unsurveyed.

T. 9 S., R. 47 E., unsurveyed,

Secs. 1 thru 30;

Secs. 33 thru 36.

T. 10 S., R. 47 E., partly unsurveyed,

Secs. 1, 2, and 12.

Tps. 1 and 2 S., R. 48 E.

Tps. 3, 4, and 5 S., R. 48 E., unsurveyed.

T. 6 S., R. 48 E., unsurveyed,

Secs. 1 thru 34;

Sec. 35, N½;

Sec. 36. N½.

T. 7 S., R. 48 E., unsurveyed,

Secs. 3 thru 10;

Secs. 15 thru 23;

Sec. 25, W½;

Secs. 26 thru 36.

Tps. 8 and 9 S., R. 48 E., unsurveyed.

T. 10 S., R. 48 E., unsurveyed,

Secs. 1 thru 17;

Secs. 21 thru 26;

Sec. 36.

Tps. 1 and 2 S., R. 49 E.

Tps. 3, 4, and 5 S., R. 49 E., unsurveyed.

T. 6 S., R. 49 E., unsurveyed,

Secs. 1 thru 30;

Sec. 31, N½ and SE¼;

Secs. 32 thru 36.

T. 7 S., R. 49 E., unsurveyed,

Secs. 1 thru 5;

Sec. 6, E½.

T. 8 S., R. 49 E., unsurveyed,

Sec. 6, W½;

Sec. 7;

Sec. 17, W½;

Secs. 18 thru 20;

Secs. 28 thru 33;

Sec. 34, W½.

T. 9 S., R. 49 E., unsurveyed,

Secs. 3 thru 11;

Secs. 14 thru 23;

Secs. 24 and 25, excepting those portions withdrawn by Public Land Order 2568;

Secs. 26 thru 35;

Sec. 36, excepting those portions withdrawn by Public Land Order 2568.

T. 10 S., R. 49 E., unsurveyed,

Sec. 1, excepting those portions withdrawn by Public Land Order 2568;

Secs. 2 thru 11;

Secs. 12 and 13, excepting those portions withdrawn by Public Land Order 2568;

Secs. 14 thru 23;

Secs. 24 and 25, excepting those portions withdrawn by Public Land Order 2568;

Secs. 26 thru 35;

Sec. 36, excepting those portions withdrawn by Public Land Order 2568.

T. 11 S., R. 49 E., unsurveyed,

Sec. 1, excepting those portions withdrawn by Public Land Order 2568;

Secs. 2 thru 11;

Secs. 12 and 13, excepting those portions withdrawn by Public Land Order 2568;

Secs. 14 thru 23;

Secs. 24 and 25, excepting those portions withdrawn by Public Land Order 2568;

Secs. 26 thru 35;

Sec. 36, excepting those portions withdrawn by Public Land Order 2568.

T. 12 S., R. 49 E., unsurveyed,

Sec. 1, excepting those portions withdrawn by Public Land Order 2568;

Secs. 2 thru 11;

Secs. 12 and 13, excepting those portions withdrawn by Public Land Order 2568;

secs 14 thru 23;

Secs. 24 and 25, excepting those portions withdrawn by Public Land Order 2568;

Secs. 26 thru 35;

Sec. 36, excepting those portions withdrawn by Public Land Order 2568.

Tps. 1, 2, 3, 4, and 5 S., R. 50 E., unsurveyed.

T. 6 S., R. 50 E., unsurveyed,

Secs. 1 thru 33.

T. 7 S., R. 50 E., unsurveyed,

Sec. 6.

Tps. 2, 3, 4, and 5 S., R. 51 E., unsurveyed.

T. 6 S., R. 51 E., unsurveyed,

Secs. 1 thru 30;

Secs. 34 thru 36.

T. 7 S., R. 51 E., unsurveyed,

Sec. 1.

Tps. 3 and 4 S., R. 51 ½ E., unsurveyed.

Tps. 3, 4, 5, and 6 S., R. 52 E., unsurveyed.

T. 7 S., R. 52 E., unsurveyed,

Secs. 1 thru 16;

Secs. 21 thru 28;

Secs. 33 thru 36.

T. 8 S., R. 52 E., unsurveyed,

Secs. 1 thru 4;

Secs. 9 thru 12, excepting those portions withdrawn by Public Land Order 805.

Tps. 3 and 4 S., R. 53 E.

Tps. 5, 6, and 7 S., R 53 E., unsurveyed.

T. 8 S., R. 53 E., unsurveyed,

Secs. 1 thru 6;

Secs. 7 thru 12, excepting those portions withdrawn by Public Land Order 805.

T. 3 S., R. 54 E.,

Secs. 4 thru 9;

Secs. 16 thru 21;

Secs. 28 thru 33.

T. 4 S., R. 54 E.,

Secs. 4 thru 9;

Secs. 16 thru 21;

Secs. 28 thru 33.

Tps. 5, 6, and 7 S., R 54 E., unsurveyed.

T. 8 S., R. 54 E., unsurveyed,

Secs. 1 thru 6;

Secs. 7 thru 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 9 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 10 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 11 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 12 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 13 S., R. 54 E., unsurveyed,

Sec. 9, excepting those portions withdrawn by Public Land Order 805;

Secs. 10 thru 15;

Secs. 16 and 21, excepting those portions withdrawn by Public Land Order 805;

Secs. 22 thru 27;

Secs. 28 and 33, excepting those portions withdrawn by Public Land Order 805;

Secs. 34 thru 36.

T. 14 S., R. 54 E., unsurveyed,

Secs. 1 thru 3;

Secs. 4 and 9, excepting those portions withdrawn by Public Land Order 805;

Secs. 10 thru 15;

Secs. 16 and 21, excepting those portions withdrawn by Public Land Order 805;

Secs. 22 thru 27;

Secs. 28 and 33, excepting those portions withdrawn by Public Land Order 805;

Secs. 34 thru 36.

Tps. 5, 6, 7, 8, 9, 10, 11, 12, 13, and 14 S., R. 55 E., unsurveyed.

T. 5 S., R. 55½ E., unsurveyed,

Secs. 6 thru 8;

Secs. 16 thru 21;

Secs. 28 thru 33.

Tps. 6, 7, 8, 9, 10, 11, 12, 13, 14, and 15 S., R. 55½ E., unsurveyed.

T. 16 S., R. 55½ E.,

Sec. 1, N½;

Sec. 2, lots 1 and 2; NE¼.

T. 5 S., R. 56 E., unsurveyed,

Secs. 19 and 20;

Secs. 27 thru 35.

T. 6 S., R. 56 E., partly unsurveyed,

Secs. 2 thru 11;

Secs. 14 thru 23;

Secs. 25 thru 36.

T. 7 S., R. 56 E., partly unsurveyed,

Secs. 1 thru 11;

Sec. 13, W½;

Secs. 14 thru 23;

Sec. 24, NW¼;

Secs. 26 thru 35.

Tps. 8, 9, 10, 11, 12, 13, and 14 S., R. 56 E., unsurveyed.

T. 15 S., R. 56 E.

T. 16 S., R. 56 E.,

Secs. 1 thru 6;

Sec. 8, lot 1;

Sec. 9, lot 1;

Tracts 38, 39, 40, 41;

Tract 42, lots A, B and C.

T. 6 S., R. 57 E.,

Sec. 30, lots 1 thru 4, E½NW¼, E½SW¼;

Sec. 31.

T. 7 S., R. 57 E.,

Sec. 6.

Tps. 8, 9, 10, 11, 12, 13, 14, and 15 S., R. 57 E., unsurveyed.

T. 16 S., R. 57 E., partly unsurveyed,

Secs. 1 thru 6;

Sec. 7, NE¼;

Secs. 8 thru 16;

Sec. 17, NE¼;

Sec. 20, SE¼SW¼, S½SE¼;

Secs. 21 thru 26;

Sec. 27, NE¼;

Sec. 28, NW¼NW¼;

Sec. 29, N½NE¼, NE¼NW¼;

Sec. 35, NE¼;

Sec. 36.

Tps. 8, 9, 10, 11, 12, 13, 14, and 15 S., R. 58 E., unsurveyed.

T. 16 S., R. 58 E., unsurveyed,

Secs. 1 thru 10;

Secs. 15 thru 22;

Secs. 27 thru 34.

T. 17 S., R. 58 E.,

Secs. 1 thru 4;

Sec. 5, NE¼;

Sec. 9, NE¼;

Sec. 10, N½, N½SW¼, SE¼SW¼, SE¼;

Secs. 11 and 12;

Sec. 13, NW¼;

Sec. 14, N½, NE¼SW¼, SE¼;

Sec.15, NE¼NE¼.

Tps. 8, 9, 10, 11, 12, 13, and 14 S., R. 59 E., unsurveyed.

The area described aggregates 361,558 acres in Clark County, 778,681 acres in Lincoln County, and 1,808,244 acres in Nye County.

DAF Lands Not Withdrawn From the Public Domain

Mount Diablo Meridian, Nevada

General Land Office Patent #1660

T. 7 S., R. 55½ E.,

Sec. 5.

General Land Office Patent #1661

T. 7 S., R. 55½ E.,

Secs. 5 and 8.

Patent #1034979

T. 7 S., R. 55½ E.,

Sec. 8.

Patent #1055957

T. 7 S., R. 55½ E.,

Sec. 17.

The area described aggregates 87.49 acres in Lincoln County.

Non-Federally Owned Land

Mount Diablo Meridian, Nevada

Patent #284077

T. 2 S., R. 44 E.,

Secs. 18 and 19.

Patent #1001726

T. 1 S., R. 49 E.,

Sec. 2.

Patent #861377

T. 1 S., R. 49 E.,

Sec. 9, SW¼NW¼ and NW¼SW¼.

Patent #83152

T. 3 S., R. 44 E.,

Secs. 1 and 12.

Patent #572555

T. 4 S., R. 46 E.,

Sec. 27.

Patent #31381

T. 5 S., R. 45 E.,

Secs. 1 and 12.

T. 5 S., R. 46 E.,

Secs. 6 and 7.

Patent #296554

T. 5 S., R. 46 E.,

Secs. 1 and 2.

Patent #285880

T. 5 S., R. 46 E.,

Sec. 1.

The area described aggregates 365 acres in Nye County.

Lands Withdrawn by the FY 2015 NDAA

Mount Diablo Meridian, Nevada

T. 19 S., R. 62 E.,

Sec. 13, lots 2, 4 and 5, excepting those portions lying within the right-of-way of the Union Pacific Railroad;

Sec. 14, lots 1, 2, 5, 6, and 8, N½NE¼, NW¼, excepting those portions lying within the right-of-way of the Union Pacific Railroad;

Sec. 24, SE¼, excepting those portions lying within the right-of-way of Nevada State Route 604 (Las Vegas Blvd.);

Sec. 25, lot 2.

T. 19 S., R. 63 E.;

Sec. 19, lot 4, S½SW¼, SW¼SE¼, excepting those portions lying within the right-of-way of Nevada State Route 604 (Las Vegas Blvd.);

Sec. 27, S½NW¼ and SE¼SE¼;

Sec. 28, S½NE¼ and SE¼NW¼;

Sec. 30, lots 1 and 2, W½NE¼ and NW¼.

The area described aggregates 1,120 acres in Clark County.

The total area aggregates 2,949,603 acres.

Expansion Request. In addition, in accordance with the Engle Act, (43 U.S.C. 155-158), the DAF has filed an application requesting withdrawal and reservation of additional public lands for military use as a national security testing and training range at the NTTR, in Clark, Lincoln, and Nye Counties, Nevada (the “expansion area”). The DAF requests that the lands be withdrawn from all forms of appropriation under the public land laws, including the mining laws, the mineral leasing laws, and the geothermal leasing laws, subject to valid existing rights, and reserved for use by the DAF for training for aerial gunnery, rocketry, electronic warfare, and tactical maneuvering and air support; as an armament and high-hazard testing area; for equipment and tactics development and testing; as well as for other defense-related purposes. The expansion area consists of the lands and interests in lands described below and adjacent to the exterior boundaries of the NTTR, located in Clark, Lincoln, and Nye Counties, Nevada. Portions of the lands are unsurveyed and the acres were based upon protraction diagrams.

Mount Diablo Meridian, Nevada

EC South/Range 77

T. 9 S., R. 46 E., unsurveyed,

Secs. 16, 22, 25, 26, and 36.

T. 9 S., R. 47 E., unsurveyed,

Secs. 31 and 32.

T. 10 S., R. 47 E., partly unsurveyed,

Secs. 3 thru 11.

T. 10 S., R. 48 E., unsurveyed,

Secs. 18 thru 20;

Secs. 27 thru 35.

The area described aggregates 17,960 acres in Nye County.

Mount Diablo Meridian, Nevada

Range 65D

T. 15 S., R. 54 E., unsurveyed,

Secs. 1 thru 3;

Sec. 4, excepting those portions withdrawn by Public Land Order 805;

Secs. 9 thru 16;

Secs. 21 thru 28;

Secs. 33 thru 36.

T. 16 S., R. 54 E.,

Secs. 1 and 2;

Sec. 3, lots 1 thru 4, S½NE¼, S½NW¼, N½SW¼, and SE¼;

Sec. 4, lots 1 thru 4, and S½NE¼.

T. 15 S., R. 55 E., unsurveyed.

T. 16 S., R. 55 E.,

Secs. 1 thru 6.

T. 16 S., R. 55½ E.,

Sec. 1, lot 1, E½SW¼, NW¼SW¼, and SE¼;

Sec. 2, lots 3 thru 5, NE¼SE¼, and W½SE¼.

The area described aggregates 39,119 acres in Clark County and 9,780 acres in Nye County.

Mount Diablo Meridian, Nevada

Ranges 63/64

T. 16 S., R. 56 E.,

Sec. 7, those portions lying northerly of the northerly right-of-way line of U.S. Highway 95;

Sec. 9, lot 2, that portion lying northerly of the northerly right-of-way line of U.S. Highway 95;

Secs. 10 and 11, those portions lying northerly of the northerly right-of-way line of U.S. Highway 95;

Sec. 12;

Secs. 13 and 14, those portions lying northerly of the northerly right-of-way line of U.S. Highway 95;

Tract 37.

T. 16 S., R. 57 E., partly unsurveyed,

Sec. 7, W½ and SE¼;

Sec. 17, W½ and SE¼;

Secs. 18 and 19, those portions lying northerly of the northerly right-of-way line of U.S. Highway 95;

Sec. 20, those portions lying northerly of the northerly right-of-way line of U.S. Highway 95, excepting those portions withdrawn by Public Law 106-65;

Sec. 27, W½ and SE¼;

Sec. 28, those portions lying northerly of the northerly right-of-way line of U.S. Highway 95, excepting those portions withdrawn by Public Law 106-65;

Secs. 33 and 34, those portions lying northerly of the northerly right-of-way line of U.S. Highway 95;

Sec. 35, those portions lying northerly of the northerly right-of-way line of U.S. Highway 95, excepting those portions withdrawn by Public Law 106-65.

T. 17 S., R. 58 E.,

Sec. 5, those portions lying northerly of the northerly right-of-way line of U.S. Highway 95, excepting those portions withdrawn by Public Law 106-65;

Sec. 6, those portions lying northerly of the northerly right-of-way line of U.S. Highway 95;

Sec. 8, those portions lying northerly of the northerly right-of-way line of U.S. Highway 95;

Secs. 9 and 10, those portions lying northerly of the northerly right-of-way line of U.S. Highway 95, excepting those portions withdrawn by Public Law 106-65;

Sec. 13, NE¼ and S½;

Secs. 14 and 15, those portions lying northerly of the northerly right-of-way line of U.S. Highway 95, excepting those portions withdrawn by Public Law 106-65;

The area described aggregates 7,621 acres in Clark County.

Mount Diablo Meridian, Nevada

Alamos

T. 16 S., R. 58 E., unsurveyed,

Sec. 11;

Sec. 12, W½;

Sec. 13, NW¼, that portion lying westerly of the westerly boundary of Alamo Road;

Sec. 14;

Sec. 23, NE¼ and W½;

Sec. 26, W½.

T. 15 S., R. 59 E., unsurveyed,

Secs. 2 thru 11;

Secs. 14 thru 19;

Sec. 20, W½, that portion lying westerly of the westerly boundary of Alamo Road;

Sec. 30, that portion lying westerly of the westerly boundary of Alamo Road;

Sec. 31, NW¼.

Tps. 9, 10, 11, 12, 12½, and 13 S., R. 60 E., unsurveyed.

T. 14 S., R 60 E., unsurveyed,

Secs. 1 thru 11;

Sec. 12, NE¼ and W½;

Sec. 14, NE¼ and W½;

Secs. 15 thru 22;

Sec. 23, NW¼;

Sec. 27, NW¼;

Secs. 28 thru 32;

Sec. 33, NW¼.

T. 15 S., R. 60 E., unsurveyed,

Sec. 5, NW¼;

Sec. 6;

Sec. 7, NE¼ and W½.

T. 9 S., R. 61 E., unsurveyed,

Secs. 3 thru 10;

Secs. 15 thru 22;

Secs. 27 thru 34.

T. 10 S., R. 61 E., unsurveyed,

Secs. 3 thru 10;

Secs. 15 thru 22;

Secs. 27 thru 34.

T. 11 S., R. 61 E., unsurveyed,

Secs. 3 thru 10;

Secs. 15 thru 22;

Secs. 27 thru 34.

T. 12 S., R. 61 E., unsurveyed,

Secs. 3 thru 10;

Secs. 15 thru 22;

Secs. 27 thru 34.

T. 12½ S., R. 61 E., unsurveyed,

Secs. 31 thru 34.

T. 13 S., R 61 E., unsurveyed,

Secs. 3 thru 10;

Secs. 15 thru 21;

Sec. 22, NE¼ and W½;

Sec. 28, NE¼ and W½;

Secs. 29 thru 31;

Sec. 32, NE¼ and W½.

T. 14 S., R. 61 E., unsurveyed,

Sec. 6, NE¼ and W½.

The area described aggregates 72,649 acres in Clark County, and 154,378 acres in Lincoln County.

The Total Area Aggregates 301,507 Acres

In the event any non-Federally owned lands within these areas described above return or pass to Federal ownership in the future, they would be subject to the terms and conditions described.

The purpose of the requested extension and expansion of the withdrawals at NTTR is to withdraw and reserve the lands for use by the DAF for training for aerial gunnery, rocketry, electronic warfare, and tactical maneuvering and air support; as an armament and high-hazard testing area; for equipment and tactics development and testing; as well as other defense-related purposes. National defense requirements are rapidly evolving in response to changing world conditions, modern conflicts, developing technologies, and new emerging threats. The NTTR is a Major Range and Test Facility Base national asset and is used to accommodate two major national defense necessities: Test and Evaluation (T&E) and large-scale training. It is sized, operated, and maintained to provide T&E information to Department of Defense (DoD) component users in support of DoD research, development, and acquisition. The NTTR must provide a broad base of T&E capabilities that is sufficient to support the full spectrum of DoD T&E requirements. The NTTR also contributes to combat readiness training, providing a venue for major training events, 5th-generation aircraft training, and training for other Federal agencies, state and local governments, allied foreign governments, and commercial entities. The NTTR is the Air Combat Command's premier range for Tactics Development and Evaluations due to its focus on high-end combat training and operationally relevant testing. The DAF indicates that the requested withdrawals are essential to enhance large-scale training at the NTTR to support advanced weapons systems and large-scale combat training exercises while providing for public safety.

Copies of the legal descriptions and the maps depicting the lands that are the subject of the DAF's applications are available for public inspection at the following offices: State Director, BLM Nevada State Office, 1430 Financial Blvd., Reno, Nevada 89502 District Manager, BLM Southern Nevada District Office, 4701 North Torrey Pines Drive, Las Vegas, NV, 89130-2301.

For a period until December 1, 2016 all persons who wish to submit comments, suggestions, or objections in connection with the withdrawal applications may present their comments in writing to the persons and offices listed in the ADDRESSES section above. All comments received will be considered before the Secretary of the Interior makes any recommendation for withdrawal to Congress.

Notice is hereby given that public meetings addressing the withdrawal applications will be held concurrently with the DAF's public meetings associated with NEPA evaluation of the proposed withdrawals. Public meetings will be held at the following locations:

• Beatty Community Center, Beatty, NV, October 12, 2016, 5-9 p.m.;

• Tonopah Convention Center, Tonopah, NV, October 13, 2016, 5-9 p.m.;

• Caliente Elementary School, Caliente, NV, October 18, 2016, 5-9 p.m.;

• Pahranagat Valley High School, Alamo, NV, October 19, 2016, 5-9 p.m.;

• Aliante Hotel, North Las Vegas, October 20, 2016, 5-9 p.m.

The DAF will be the lead agency for evaluation of the proposed withdrawal extension and expansion pursuant to NEPA and other applicable environmental and cultural resources authorities, and will be publishing its own scoping and other notices.

Comments, including names and street addresses of respondents, will be available for public review at the DAF and BLM addresses noted above, during regular business hours Monday through Friday, except Federal holidays. Before including your address, phone number, email address, or other personal identifying information in your comment, you should be aware that your entire comment, including your personal identifying information, may be publicly available at any time. While you can ask us in your comment to withhold your personal identifying information from public review, we cannot guarantee that we will be able to do so. Subject to valid existing rights, the public lands that are the subject of the DAF application for expansion of the withdrawal, and that are described in this Notice, will be segregated from all forms of appropriation under the public land laws, including the mining laws, the mineral leasing laws, and the geothermal leasing laws. The segregation will be effective for a period until [two years from date of publication in FR], unless the expansion application is denied or canceled or the requested withdrawal is approved prior to that date. Licenses, permits, cooperative agreements, or discretionary land use authorizations may be allowed during the period of segregation, but only with the approval of the authorized officer and, as appropriate, with the concurrence of DAF.

The applications for withdrawal and reservation will be processed in accordance with the regulations at 43 CFR part 2300.

Authority: 43 U.S.C. 1714(b)(1) and 43CFR 2300.

John F. Ruhs,
State Director, Nevada.

[FR Doc. 2016-21214 Filed 9-1-16; 8:45 am]

BILLING CODE 4310-HC-P